DEPARTMENT OF STATE

22 CFR Part 41

[Public Notice: 12783]

RIN 1400-AG01

Visas: Visa Bond Pilot Program; Correction

AGENCY: Department of State.

ACTION: Temporary final rule; correction.

SUMMARY: The Department of State is correcting a temporary final rule that appeared in the Federal Register on August 5, 2025. The document erroneously provided that one of the amendatory instructions would sunset on August 5, 2026. This document corrects that error and also corrects the designation of paragraphs in the rule.

DATES: Effective August 20, 2025.

FOR FURTHER INFORMATION CONTACT: Alice Kottmyer, Attorney-Adviser, Office of the Legal Adviser, 202-646-2199, kottmyeram@state.gov.

SUPPLEMENTARY INFORMATION: In FR Doc. 2025-14826, appearing on page 37378 in the Federal Register of Monday, August 5, 2025, the following corrections are made:

1. On page 37378, in the first column, the DATES section is corrected to read as follows:

DATES:

Amendatory instruction 1 is effective on August 20, 2025. Amendatory instruction 2 is effective from August 20, 2025, until August 5, 2026.

§ 41.11 [Corrected]

2. On page 37386, starting in the second column, in amendment 2 for § 41.11(c)(5)(ii), redesignate paragraphs (c)(5)(ii)(1) through (3) as paragraphs (c)(5)(ii)(A) through (C).

Stuart R. Wilson,
Deputy Assistant Secretary, Bureau of Consular Affairs, U.S. Department of State.

[FR Doc. 2025-15211 Filed 8-8-25; 8:45 am]

BILLING CODE 4710-06-P